DEPARTMENT OF ENERGY

Federal Energy Regulatory Commission

Combined Notice of Filings #1

April 1, 2009.

Take notice that the Commission received the following electric corporate filings:

Docket Numbers: EC09-64-000.

Applicants: PPL Shoreham Energy, LLC, PPL Generation, LLC, PPL New Jersey Solar, LLC, PPL New Jersey Biogas, LLC., PPL Renewable Energy, LLC.

Description: Application for Authorization Under Section 203 of the Federal Power Act, Request for Waivers of Filing Requirements and Expedited Treatment of Application of PPL Shoreham Energy, LLC, et al.

Filed Date: 03/31/2009.

Accession Number: 20090331-5225.

Comment Date: 5 p.m. Eastern Time on Tuesday, April 21, 2009.

Take notice that the Commission received the following exempt wholesale generator filings:

Docket Numbers: EG09-34-000.

Applicants: PPL New Jersey Solar, LLC.

Description: PPL New Jersey Solar, LLC Notice of Self Certification of Exempt Wholesale Generator Status.

Filed Date: 03/31/2009.

Accession Number: 20090331-5215.

Comment Date: 5 p.m. Eastern Time on Tuesday, April 21, 2009.

Docket Numbers: EG09-35-000.

Applicants: PPL New Jersey Biogas, LLC.

Description: PPL New Jersey Biogas, LLC. Notice of Self-Certification of Exempt Wholesale Generator Status.

Filed Date: 03/31/2009.

Accession Number: 20090331-5219.

Comment Date: 5 p.m. Eastern Time on Tuesday, April 21, 2009.

Take notice that the Commission received the following electric rate filings:

Docket Numbers: ER98-511-010.

Applicants: Oklahoma Gas and Electric Company, OGE Energy Resources, Inc.

Description: Oklahoma Gas and Electric Company submits Substitute Original Sheet 1 to FERC Electric Tariff, Sixth Revised Volume 3.

Filed Date: 03/26/2009.

Accession Number: 20090401-0049.

Comment Date: 5 p.m. Eastern Time on Thursday, April 16, 2009.

Docket Numbers: ER06-743-002.

Applicants: Air Liquide Large Industries U.S. LP.

Description: Amendment to Application for Determination of Category 1 Seller Status of Air Liquide Large Industries U.S. LP.

Filed Date: 03/31/2009.

Accession Number: 20090331-5228.

Comment Date: 5 p.m. Eastern Time on Tuesday, April 21, 2009.

Docket Numbers: ER06-771-002; ER06-772-002; ER06-773-002.

Applicants: ExxonMobil Baton Rouge Complex, ExxonMobil Beaumont Complex, ExxonMobil Labarge Shute Creek Treating.

Description: ExxonMobil Entities submits Original Sheet No. 1 et al. to FERC Electric Tariff, Original Volume No. 1.

Filed Date: 03/26/2009.

Accession Number: 20090401-0048.

Comment Date: 5 p.m. Eastern Time on Thursday, April 16, 2009.

Docket Numbers: ER07-1040-004; ER00-2603-007; ER94-142-031

Applicants: Hopewell Cogeneration Ltd Partnership, Syracuse Energy Corporation, SUEZ Energy Marketing NA, Inc.

Description: Notice of Non-Material Change in Status of Hopewell Cogeneration Limited Partnership.

Filed Date: 03/30/2009.

Accession Number: 20090330-5154.

Comment Date: 5 p.m. Eastern Time on Monday, April 20, 2009.

Docket Numbers: ER08-73-003.

Applicants: California Independent System Operator Corporation.

Description: California Independent System Operator Corporation submits Original Sheet 746A to FERC Electric Tariff, Fourth Replacement Volume 11.

Filed Date: 03/26/2009.

Accession Number: 20090331-0047.

Comment Date: 5 p.m. Eastern Time on Thursday, April 16, 2009.

Docket Numbers: ER08-830-001.

Applicants: ISO New England Inc. & New England Power Pool.

Description: ISO New England Inc et al submit reports regarding treatment of price-responsive demand in the New England Electricity Markets.

Filed Date: 03/27/2009.

Accession Number: 20090331-0046.

Comment Date: 5 p.m. Eastern Time on Friday, April 17, 2009.

Docket Numbers: ER08-891-002.

Applicants: Wisconsin Power and Light Company.

Description: Alliant Energy Corporate Services, Inc submits revised sheets reflecting Service Agreement 1 modification.

Filed Date: 03/27/2009.

Accession Number: 20090331-0051.

Comment Date: 5 p.m. Eastern Time on Friday, April 17, 2009.

Docket Numbers: ER08-911-002.

Applicants: Alliant Energy Corporate Services, Inc.

Description: Wisconsin Power and Light Company submits Original Sheet 1 et al. to FERC Electric Tariff, Original Volume 13 re Wholesale Power Agreement.

Filed Date: 03/27/2009.

Accession Number: 20090331-0044.

Comment Date: 5 p.m. Eastern Time on Friday, April 17, 2009.

Docket Numbers: ER08-924-002.

Applicants: Alliant Energy Corporate Services, Inc.

Description: Wisconsin Power and Light Company et al. submits Original Sheet 1 to FERC Electric Tariff, Original Volume 13 re Wholesale Power Agreement.

Filed Date: 03/27/2009.

Accession Number: 20090331-0045.

Comment Date: 5 p.m. Eastern Time on Friday, April 17, 2009.

Docket Numbers: ER09-732-002.

Applicants: Windhorse Energy, Inc.

Description: Windhorse Energy, Inc submits an amended petition for acceptance of FERC Electric Tariff, Original Volume 1, Substitute Original Sheet 1.

Filed Date: 03/27/2009.

Accession Number: 20090401-0058.

Comment Date: 5 p.m. Eastern Time on Friday, April 17, 2009.

Docket Numbers: ER09-886-000.

Applicants: Conectiv Vineland Solar, LLC.

Description: Conectiv Vineland Solar, LLC submits their Application for Authorization to make market-based wholesale sales of energy, capacity and ancillary services under FERC Electric Tariff 1, request for related waivers etc.

Filed Date: 03/27/2009.

Accession Number: 20090330-0098.

Comment Date: 5 p.m. Eastern Time on Friday, April 17, 2009.

Docket Numbers: ER09-890-000.

Applicants: Windhorse Energy, LLC.

Description: Windhorse Energy, LLC request acceptance of Initial Tariff Waivers and Blanket Authority, FERC Electric Tariff, Original Volume 1.

Filed Date: 03/27/2009.

Accession Number: 20090330-0097.

Comment Date: 5 p.m. Eastern Time on Friday, April 17, 2009.

Docket Numbers: ER09-897-000.

Applicants: DC Energy Dakota LLC.

Description: Petition of DC Energy Dakota, LLC for Acceptance of Initial Tariff, Waivers and Blanket Authority.

Filed Date: 03/30/2009.

Accession Number: 20090331-0042.

Comment Date: 5 p.m. Eastern Time on Monday, April 20, 2009.

Docket Numbers: ER09-899-000.

Applicants: Pacific Gas and Electric Company.

Description: Pacific Gas and Electric Company submits a Service Agreement for Wholesale Distribution Tariff Service and an Interconnection Agreement with Hercules Municipal Utility etc.

Filed Date: 03/27/2009.

Accession Number: 20090330-0023.

Comment Date: 5 p.m. Eastern Time on Friday, April 17, 2009.

Docket Numbers: ER09-905-000.

Applicants: National Grid USA Service Company, Inc.

Description: New York Independent System Operator, Inc et al. submits an executed Standard Large Generator Interconnection Agreement, and request waiver of the Commission's prior notice requirements, effective 3/11/09.

Filed Date: 03/27/2009.

Accession Number: 20090331-0021.

Comment Date: 5 p.m. Eastern Time on Friday, April 17, 2009.

Docket Numbers: ER09-906-000.

Applicants: Midwest Independent Transmission System Operator, Inc.

Description: Midwest Independent Transmission System Operator, Inc submits proposed revisions to Schedule 10 of its Open Access Transmission Tariff, FERC Electric Tariff, Fourth Revised Volume 1.

Filed Date: 03/27/2009.

Accession Number: 20090331-0022.

Comment Date: 5 p.m. Eastern Time on Friday, April 17, 2009.

Docket Numbers: ER09-907-000.

Applicants: South Carolina Electric & Gas Company.

Description: South Carolina Electric & Gas Company submits revisions to section 2.2 of SCE&G's Open Access Transmission Tariff.

Filed Date: 03/27/2009.

Accession Number: 20090331-0043.

Comment Date: 5 p.m. Eastern Time on Friday, April 17, 2009.

Docket Numbers: ER09-908-000.

Applicants: PacifiCorp.

Description: PacifiCorp submits updated Exhibit 2 to its First Revised Rate Schedule No 302.

Filed Date: 03/27/2009.

Accession Number: 20090331-0041.

Comment Date: 5 p.m. Eastern Time on Friday, April 17, 2009.

Docket Numbers: ER09-909-000.

Applicants: Florida Power Corporation.

Description: Florida Power Corporation et al. submits page 9 of the filing letter with the signature regarding cost-based power sales agreement with Seminole Electric Cooperative, Inc.

Filed Date: 03/30/2009.

Accession Number: 20090331-0049.

Comment Date: 5 p.m. Eastern Time on Monday, April 20, 2009.

Docket Numbers: ER09-910-000.

Applicants: Cogen Technologies Linden Venture, LLP.

Description: Cogen Technologies Linden Venture, LLP submits Shared Facilities and Coordinated Transmission Agreement and Indemnity between Linden Venture and its affiliate Linden VFT, LLC.

Filed Date: 03/27/2009.

Accession Number: 20090331-0040.

Comment Date: 5 p.m. Eastern Time on Friday, April 17, 2009.

Docket Numbers: ER09-911-000.

Applicants: South Carolina Electric & Gas Company.

Description: South Carolina Electric & Gas Company submits First Revised Sheet Agreement 102 to FERC Electric Tariff, Fourth Revised Volume 5.

Filed Date: 03/27/2009.

Accession Number: 20090331-0050.

Comment Date: 5 p.m. Eastern Time on Friday, April 17, 2009.

Docket Numbers: ER09-912-000.

Applicants: Pacific Gas and Electric Company.

Description: Pacific Gas and Electric Company submits amendments to the Grizzly Development and Mokelumne Settlement Agreement etc.

Filed Date: 03/30/2009.

Accession Number: 20090331-0061.

Comment Date: 5 p.m. Eastern Time on Monday, April 20, 2009.

Docket Numbers: ER09-913-000.

Applicants: PJM Interconnection, LLC.

Description: PJM Interconnection, LLC submits amendments to Schedule 12—Appendix of the PJM Tariff etc.

Filed Date: 03/30/2009.

Accession Number: 20090331-0062.

Comment Date: 5 p.m. Eastern Time on Monday, April 20, 2009.

Docket Numbers: ER09-914-000.

Applicants: Otter Tail Power Company.

Description: Otter Tail Power Company submits an unexecuted Pseudo-Tie Agreement among Otter Tail and Central Power Electric Cooperative, Inc, effective 2/28/09.

Filed Date: 03/30/2009.

Accession Number: 20090331-0063.

Comment Date: 5 p.m. Eastern Time on Monday, April 20, 2009.

Docket Numbers: ER09-915-000.

Applicants: Southwest Power Pool, Inc.

Description: Southwest Power Pool, Inc submits an executed Service Agreement for Network Integration Transmission Service with Kansas Electric Power Coop, Inc.

Filed Date: 03/30/2009.

Accession Number: 20090331-0064.

Comment Date: 5 p.m. Eastern Time on Monday, April 20, 2009.

Docket Numbers: ER09-916-000.

Applicants: Southwest Power Pool, Inc.

Description: Southwest Power Pool submits Original Service Agreement 1774 to FERC Electric Tariff, Fifth Revised Volume 1.

Filed Date: 03/30/2009.

Accession Number: 20090401-0017.

Comment Date: 5 p.m. Eastern Time on Monday, April 20, 2009.

Docket Numbers: ER09-917-000.

Applicants: MidAmerican Energy Company.

Description: MidAmerican Energy Co submits an agreement governing joint ownership of facilities for the Grimes-Granger Project.

Filed Date: 03/27/2009.

Accession Number: 20090401-0016.

Comment Date: 5 p.m. Eastern Time on Friday, April 17, 2009.

Docket Numbers: ER09-918-000.

Applicants: California Independent System Operator Corporation

Description: California Independent System Operator Corporation submits an amendment to the ISO Tariff that corrects technical differences between the ISO Tariff and Business Practice Manuals etc.

Filed Date: 03/30/2009.

Accession Number: 20090401-0015.

Comment Date: 5 p.m. Eastern Time on Monday, April 20, 2009.

Docket Numbers: ER09-919-000.

Applicants: Tucson Electric Power Company.

Description: Tucson Electric Power Co submits Second Revised Sheet No. 96A et al. to FERC Electric Tariff, Fourth Revised Volume No. 2.

Filed Date: 03/30/2009.

Accession Number: 20090401-0021.

Comment Date: 5 p.m. Eastern Time on Monday, April 20, 2009.

Docket Numbers: ER09-921-000.

Applicants: PacifiCorp.

Description: PacifiCorp submits Original Sheet 1 et al. to FERC Electric Tariff, Original Volume 13.

Filed Date: 03/31/2009.

Accession Number: 20090401-0019.

Comment Date: 5 p.m. Eastern Time on Tuesday, April 21, 2009.

Docket Numbers: ER09-922-000.

Applicants: Southern Company Services, Inc.

Description: Southern Companies submits bilateral revisions to certain unit power sales agreements with Florida Power Corporation et al.

Filed Date: 03/27/2009.

Accession Number: 20090401-0018.

Comment Date: 5 p.m. Eastern Time on Friday, April 17, 2009.

Docket Numbers: ER09-923-000.

Applicants: Cleco Power LLC.

Description: Cleco Power LLC submits an Electric System Interconnection Agreement with Valley Electric Membership Corp et al.

Filed Date: 03/31/2009.

Accession Number: 20090401-0022.

Comment Date: 5 p.m. Eastern Time on Tuesday, April 21, 2009.

Take notice that the Commission received the following open access transmission tariff filings:

Docket Numbers: OA07-32-007.

Applicants: Entergy Services, Inc.

Description: Entergy Services, Inc submits compliance/refund report relating to penalty assessments and distributions pursuant to Order No 890.

Filed Date: 03/27/2009.

Accession Number: 20090331-0060.

Comment Date: 5 p.m. Eastern Time on Friday, April 17, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-7893 Filed 4-7-09; 8:45 am]

BILLING CODE 6717-01-P